DEPARTMENT OF ENERGY

Federal Energy Regulatory Commission

[Project No. 2232-570]

Duke Energy Carolinas, LLC; Notice of Availability of Final Environmental Assessment

October 16, 2009.

In accordance with the National Environmental Policy Act of 1969, as amended, and the Federal Energy Regulatory Commission's regulations, 18 CFR part 380 (Order No. 486, 52 FR 47879), the Commission has reviewed an application, filed June 18, 2009, for non-project use of project lands and waters at the Catawba-Wateree Project, FERC Project No. 2232. The licensee seeks Commission approval to permit the City of Lenoir, North Carolina to construct a new raw water intake at Lake Rhodhiss. The Environmental Assessment (EA) analyzes the environmental impacts of the proposed construction and operation of the new intake facility and concludes that approval of the application, with appropriate environmental measures, would not constitute a major federal action significantly affecting the quality of the human environment. The project is located on the Catawba and Wateree Rivers in North and South Carolina.

The EA was written by staff in the Office of Energy Projects, Federal Energy Regulatory Commission (Commission). A copy of the EA is attached to a Commission order titled “Order Approving Non-Project Use of Project Lands and Waters: Construction of Raw Water Intake” issued October 16, 2009, and is on file with the Commission and is available for public inspections. The EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Kimberly D. Bose,
Secretary.

[FR Doc. E9-25615 Filed 10-23-09; 8:45 am]

BILLING CODE 6717-01-P